ENVIRONMENTAL PROTECTION AGENCY

[FRL-8453-8]

Environmental Laboratory Advisory Board; Notice of Charter Renewal

AGENCY: Environmental Protection Agency (EPA).

ACTION: Notice of Charter Renewal.

The Charter for the Environmental Protection Agency's (EPA) Environmental Laboratory Advisory Board (ELAB) will be renewed for an additional two-year period, as a necessary committee which is in the public interest, in accordance with the provisions of the Federal Advisory Committee Act (FACA), 5 U.S.C. App. 2 section 9(c). The purpose of ELAB is to provide advice and recommendations to the Administrator of EPA on issues associated with the systems and standards of accreditation for environmental laboratories.

It is determined that ELAB is in the public interest in connection with the performance of duties imposed on the Agency by law.

Inquiries may be directed to Lara P. Autry, Senior Advisor, U.S. Environmental Protection Agency, Office of Research and Development, 109 T W Alexander Drive (E243-05), Research Triangle Park, NC 27709 or by e-mail: autry.lara@epa.gov.

Dated: June 21, 2007.
George M. Gray,
Assistant Administrator, Office of Research and Development.

[FR Doc. E7-15785 Filed 8-10-07; 8:45 am]

BILLING CODE 6560-50-P